ENVIRONMENTAL PROTECTION AGENCY

[Docket Number ORD-2005-0009; FRL-7888-9]

Board of Scientific Counselors, Drinking Water Subcommittee Meetings—March 2005

AGENCY: Environmental Protection Agency (EPA).

ACTION: Cancellation of meetings.

SUMMARY: The Environmental Protection Agency, Office of Research and Development (ORD), announces the cancellation of two meetings of the Board of Scientific Counselors (BOSC) Drinking Water Subcommittee. These meetings (teleconference March 23, 2005, and face-to-face meeting March 29-31, 2005) were announced in a Federal Register notice published on Tuesday, March 8, 2005, 70 FR 11241. The purpose of these public meetings was to evaluate EPA's Drinking Water Research Program, and they will be rescheduled at a later date.

FOR FURTHER INFORMATION CONTACT: Edie Coates, Designated Federal Officer, Environmental Protection Agency, Office of Research and Development, Mail Code B105-03, Research Triangle Park, NC, 27711; telephone (919) 541-3508; fax (919) 541-3335; e-mail coates.edie@epa.gov.

Dated: March 18, 2005.
Kevin Y. Teichman,
Director, Office of Science Policy.

[FR Doc. 05-5824 Filed 3-23-05; 8:45 am]

BILLING CODE 6560-50-P